DEPARTMENT OF THE INTERIOR

Bureau of Reclamation

[RR02380000, 17XR0680A3, RX041689900000000]

Notice of Availability of the Draft Environmental Impact Statement for the Long-Term Plan To Protect Adult Salmon in the Lower Klamath River

AGENCY: Bureau of Reclamation, Interior.

ACTION: Notice.

SUMMARY: The Bureau of Reclamation has made available for public review and comment the Draft Environmental Impact Statement (DEIS) for the Long-Term Plan to Protect Adult Salmon in the Lower Klamath River (LTP). The DEIS describes the potential environmental effects of the No-Action and Action Alternatives to augment flows in the Lower Klamath River to reduce the likelihood, and reduce the severity, of any Ich epizootic event that could lead to an associated fish die-off in future years.

DATES: Send written comments on the DEIS on or before December 5, 2016. One open house followed by a public hearing will be held on Wednesday, November 9, 2016, in Redding, CA. Doors open at 5:00 p.m.; the open house is scheduled from 5:30 p.m. to 6:30 p.m.; and the public hearing is scheduled from 6:30 p.m. to 8:30 p.m.

ADDRESSES: Send written comments or requests for copies to Ms. Julia Long, Project Manager, Bureau of Reclamation, Northern California Area Office, 16349 Shasta Dam Blvd., Shasta Lake, CA 96019; or via email to BOR-SLO-Sha-ltpeis-Public-Comments@usbr.gov. The DEIS is also accessible from the following Web site: http://www.usbr.gov/mp/nepa/nepa_projdetails.cfm?Project_ID=22021.

The open house and public hearing will be held at the Holiday Inn, 1900 Hilltop Drive, Redding, CA.

FOR FURTHER INFORMATION CONTACT: Ms. Julia Long, Project Manager, 530-276-2044; or by email at BOR-SLO-Sha-ltpeis-Public-Comments@usbr.gov.

SUPPLEMENTARY INFORMATION: The DEIS documents the potential direct, indirect, and cumulative physical, biological, and socioeconomic environmental effects that may result from implementing flow augmentation actions in the Lower Klamath River.

The DEIS evaluates and discloses any potential environmental impacts associated with implementing the LTP. The purpose of the proposed action is to increase flows in the lower Klamath River to reduce the likelihood, and potentially reduce the severity, of any Ich epizootic event that could lead to an associated fish die-off in future years. The need is based on the past extensive fish die-off that occurred in 2002. Crowded holding conditions for pre-spawn adults, warm water temperatures, and the presence of disease pathogens are the likely major factors contributing to the adult salmon mortalities. The proposed increased flows would be provided primarily from releases of water stored in Trinity Reservoir on the main stem of the Trinity River.

In August and September 2002, an estimated 170,000 fall-run Chinook salmon returned to the Klamath River. During those two months, 33,000 adult Chinook salmon, including 344 Coho salmon which are listed as threatened under the Endangered Species Act, and other salmonids, died prematurely due to infection. Federal, tribal, and state biologists studying the die-off concluded that the pathogens Ich (Ichthyophthirius multifiliis) and Columnaris (Flavobacterium columnare), were the primary causes of death to fish. Contributing factors that lead to the infection were warm water temperatures, low water velocities and volumes, high fish density, and long fish residence times. Flows in the lower Klamath averaged about 2,000 cubic feet per second during September 2002.

Subsequent dry year conditions in 2003, 2004, and 2012 through 2016, prompted Reclamation to arrange for late-summer flow augmentation to reduce the probability of a disease outbreak. In each of these years, 38 thousand acre-feet (TAF) to 64 TAF of supplemental water was released from Trinity Reservoir.

Reclamation recognizes that there is an increasing need to provide augmentation flows in dry years for the foreseeable future to prevent fish mortalities due to Ich and Columnaris. Reclamation is developing a long-term plan to address this need.

Authority

The Trinity River Division Authorization Act of August 12, 1955 (Public Law 84-386) and the Trinity River Basin Fish & Wildlife Management Act of 1984 (Act of October 24, 1984, Public Law 98-541), as amended, provides Reclamation the authority to take action to protect fishery resources.

Public Review of DEIS

Copies of the DEIS are available for public review at the following locations:

1. Bureau of Reclamation, Mid-Pacific Region, Regional Library, 2800 Cottage Way, Sacramento, CA 95825.

2. Bureau of Reclamation, Northern California Area Office, 16349 Shasta Dam Blvd., Shasta Lake, CA 96019.

3. Natural Resources Library, U.S. Department of the Interior, 1849 C Street NW., Main Interior Building, Washington, DC 20240-0001.

4. Shasta County Public Library, Redding Library, 1100 Parkview Avenue, Redding, CA 96001.

5. Humboldt County Public Library, 1313 3rd Street, Eureka, CA 95501.

6. Klamath County Public Library, 126 S. 3rd Street, Klamath Falls, OR 97601.

7. Chiloquin Branch Library, 104 S. 1st Avenue, Chiloquin, OR 97624.

8. Los Banos Branch Library, 1312 S. 7th Street, Los Banos, CA 93635.

Special Assistance for Public Hearings

If special assistance is required at the public hearings, please contact Ms. Sheryl Harral, Bureau of Reclamation, Public Affairs Office, at sharral@usbr.gov. Please notify Ms. Harral as far in advance as possible to enable Reclamation to secure the needed services. If a request cannot be honored, the requestor will be notified. A telephone device for the hearing impaired (TDD) is available at 916-978-5608.

Public Disclosure

Before including your address, phone number, email address, or other personal identifying information in your comment, you should be aware that your entire comment—including your personal identifying information—may be made publicly available at any time. While you can ask us in your comment to withhold your personal identifying information from public review, we cannot guarantee that we will be able to do so.

Dated: October 6, 2016.
Federico Barajas,
Deputy Regional Director.

[FR Doc. 2016-25535 Filed 10-20-16; 8:45 am]

BILLING CODE 4332-90-P